DEPARTMENT OF STATE

[Public Notice: 10044]

In the Matter of the Amendment of the Designation of Hizballah (and Other Aliases) as a Specially Designated Global Terrorist

Based upon a review of the administrative record assembled in this matter, and in consultation with the Attorney General and the Secretary of the Treasury, I have concluded that there is a sufficient factual basis to find that Hizballah (and other aliases): Lebanese Hizballah, also known as Lebanese Hezbollah, also known as LH; Foreign Relations Department, also known as FRD; and External Security Organization, also known as ESO, also known as Foreign Action Unit, also known as Hizballah ESO, also known as Hizballah International, also known as Special Operations Branch, also known as External Services Organization, also known as External Security Organization of Hezbollah.

Therefore, pursuant to Section 1(b) of Executive Order 13224, I hereby amend the designation of Hizballah as a Specially Designated Global Terrorist to include the following new aliases: Lebanese Hizballah, also known as Lebanese Hezbollah, also known as LH; Foreign Relations Department, also known as FRD; and External Security Organization, also known as ESO, also known as Foreign Action Unit, also known as Hizballah ESO, also known as Hizballah International, also known as Special Operations Branch, also known as External Services Organization, also known as External Security Organization of Hezbollah.

This determination shall be published in the Federal Register.

Dated: May 16, 2017.
Rex W. Tillerson,
Secretary of State.

[FR Doc. 2017-13318 Filed 6-22-17; 8:45 am]

BILLING CODE 4710-AD-P